FEDERAL COMMUNICATIONS COMMISSION

Notice of Public Information Collection(s) Being Submitted to OMB for Review and Approval

August 22, 2003.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before October 8, 2003. If you anticipate that you will be submitting comments, but find it difficult to do so within the period of time allowed by this notice, you should advise the contact listed below as soon as possible.

ADDRESSES: Direct all comments to Les Smith, Federal Communications Commission, Room 1-A804, 445 12th Street, SW., Washington, DC 20554, or via the Internet to Leslie.Smith@fcc.gov; or Kim A. Johnson, Office of Management and Budget (OMB), Room 10236 NEOB, Washington, DC 20503, (202) 395-3562, or via the Internet at Kim_A._Johnson@omb.eop.gov.

FOR FURTHER INFORMATION CONTACT: For additional information or copy of the information collection(s) contact Les Smith at (202) 418-0217 or via the Internet at Leslie.Smith@fcc.gov.

SUPPLEMENTARY INFORMATION: OMB Control Number: 3060-0716.

Title: Blanketing Interference.

From Number: N/A.

Type of Review: Extension of currently approved collection.

Respondents: Business or other for-profit entities; Individuals or households; and Not-for-profit institutions.

Number of Respondents: 21,000.

Estimated Time Per Response: 1 to 2 hours.

Frequency of Response: Third party disclosure.

Total Annual Burden: 41,000 hours.

Total Annual Costs: None.

Needs and Uses: Under 47 CFR 72.88 (AM), 73.318 (FM), and 73.685(d) (TV), the licensee is financially responsible for resolving complaints of interference within one year of program test authority when certain conditions are met. After the first year, a licensee is only required to provide technical assistance to determine the cause of the interference. The FCC has an outstanding Notice of Proposed Rulemaking (NPRM) in MM Docket No. 96-62, In the Matter of Amendment of Part 73 of the Commission's Rules to More Effectively Resolve Broadcast Blanketing Interference, Including Interference to Consumer Electronics and Other Communications Devices. The NPRM has proposed to provide detailed clarification of the AM, FM, and TV licensee's responsibilities in resolving/eliminating blanketing interference caused by their individual stations. The NPRM has also proposed to consolidate all blanketing interference rules under a new section 47 CFR 73.1630, “Blanketing Interference.” This new rule has been designed to facilitate the resolution of broadcast interference problems and set forth all responsibilities of the licensee/permittee of a broadcast station. To date, final rules have not been adopted.

OMB Control Number: 3060-0581.

Title: Section 76.503, National Subscriber Limits.

Form Number: N/A.

Type of Review: Extension of currently approved collection.

Respondents: Business or other for-profit entities.

Number of Respondents: 10.

Estimated Time Per Response: 1 hour (multiple responses annually).

Frequency of Response: On occasion reporting requirements.

Total annual burden: 20 hours.

Total Annual Costs: None.

Needs and Uses: 47 CFR 76.503 requires that prior to acquiring additional multichannel video-programming providers (MVPD), any cable operator that serves 20 per cent or more of the MPVP subscribers nationwide shall certify to the FCC, concurrent with its application to the FCC for transfer of license at issue in the acquisition, that no violation of the national subscriber limits prescribes in this section will occur as a result of such acquisition. The FCC uses the certification filings to ensure that cable operators do not violate the 30 percent share rule in their acquisitions of additional multi-channel programming providers. The FCC uses 47 CFR 76.503, Note 1, certification filings to verify that limited partners who so certify are not involved in management or operations of the media-related activities of the partnership.

OMB Control Number: 3060-0924.

Title: Report and Order in MM Docket No. 99-25 Creation of Low Power Radio Service.

Form Number: N/A.

Type of Review: Extension of currently approved collection.

Respondents: Not-for-profit entities; and State, local or tribal governments.

Number of Respondents: 1,200 (multiple responses).

Estimated Time Per Response: 0.0025 to 12 hours.

Frequency of Response: Recordkeeping; On occasion reporting requirements; Third party disclosure.

Total Annual Burden: 27,354 hours.

Total Annual Cost: $23,850.

Needs and Uses: The information collection requirements contained in MM Docket No. 99-25, Report and Order, will ensure that the integrity of the FM spectrum is not compromised. It will also ensure that unacceptable interference will not be caused to existing radio services and that the statutory requirements are met. These rules will ensure that the stations are operated in the public interest.

Federal Communications Commission.
Marlene H. Dortch,
Secretary.

[FR Doc. 03-22679 Filed 9-5-03; 8:45 am]

BILLING CODE 6712-01-P